DEPARTMENT OF DEFENSE

Department of the Army

Record of Decision for the Conversion of an Armor Brigade Combat Team to a Stryker Brigade Combat Team at Fort Carson, CO

AGENCY: Department of the Army, DoD.

ACTION: Notice of availability.

SUMMARY: The Department of the Army announces the availability of the Record of Decision (ROD) to convert an Armor Brigade Combat Team (BCT) to a Stryker BCT at Fort Carson, Colorado. The Deputy Chief of Staff of the Army, G-3/5/7 has reviewed the 2008 Final Environmental Impact Statement for the Permanent Stationing of the 2/25th Stryker Brigade Combat Team (2008 EIS), and has determined that the EIS adequately evaluated the potential environmental and socioeconomic effects associated with this conversion, and that no supplementation of the EIS is required. The ROD explains that the Army will expand on the decision made in 2008 to meet the changed needs of the Army and adjust to constantly evolving mission requirements, and discusses the potential environmental and socioeconomic impacts associated with the Stryker BCT conversion.

ADDRESSES: The ROD can be obtained from http://aec.army.mil/Services/Support/NEPA/Documents.aspx. Written requests for a copy of the ROD should be addressed to: U.S. Army Environmental Command, Public Affairs Office, 2450 Connell Road (Building 2264), JBSA Fort Sam Houston, TX 78234-7664.

FOR FURTHER INFORMATION CONTACT: Public Affairs Office, U.S. Army Environmental Command, at (210) 466-1590 or by email at USARMY.JBSA.AEX.MBX@mail.mil.

SUPPLEMENTARY INFORMATION: The Army announced on June 25, 2013 that it was reducing the number of Active Army BCTs from 45 to 33 over the next several years. As this overall reduction occurs, the Army will have to rebalance the remaining BCTs to retain the required mix of Infantry, Armor, and Stryker BCTs.

Under Alternative C of the 2008 EIS, the Stryker BCT would have replaced the 4th BCT, 4th Infantry Division—an Infantry BCT at Fort Carson. Instead of replacing an Infantry BCT with a Stryker BCT, this decision converts an Armor BCT to a Stryker BCT. The ROD, which incorporates the 2008 EIS by reference, discusses the minor differences in equipment and training between the two scenarios and why the 2008 analysis is adequate to support this decision.

The potential environmental and socioeconomic impacts of stationing a Stryker BCT at Fort Carson were analyzed in the 2008 EIS and addressed for both Fort Carson and Piñon Canyon Maneuver Site (PCMS). At Fort Carson, the 2008 EIS identified significant impacts in the areas of soil erosion, wildfire management, and air quality. At PCMS, the EIS found significant impacts could occur in the areas of soil erosion, wildfire management, and cultural resources.

Because this action coincides with the inactivation of another BCT, the net number of Soldiers training at Fort Carson and PCMS will be less than anticipated in the 2008 EIS. The action also replaces M1 tanks and Bradley Fighting Vehicles (BFVs) with lighter Stryker combat vehicles. In addition, no construction will be required for this action at either Fort Carson or PCMS. This means that the significant impacts predicted for Fort Carson and PCMS in the 2008 EIS will not be likely to occur. Site-specific National Environmental Policy Act (NEPA) analysis on implementing this stationing decision will be prepared for both Fort Carson and PCMS.

It is important to note that this action will not require any expansion of PCMS.

All practicable means to avoid or minimize environmental harm identified in the 2008 EIS for the alternative of stationing the Stryker BCT at Fort Carson will be adopted, unless different measures are developed and identified in the site-specific NEPA documents.

This action reduces heavy vehicle maneuver use at Fort Carson. The Stryker vehicles use less fuel than the M1 tanks and BFVs they are replacing. These factors will likely reduce dust and air pollution.

Brenda S. Bowen,
Army Federal Register Liaison Officer.

[FR Doc. 2014-01841 Filed 1-29-14; 8:45 am]

BILLING CODE 3710-08-P